NUCLEAR REGULATORY COMMISSION

[Docket Nos. 30-5980-EA and 30-5982-EA; ASLBP No. 05-835-01-EA]

Safety Light Corporation; Establishment of Atomic Safety and Licensing Board

Pursuant to delegation by the Commission dated December 29, 1972, published in the Federal Register, 37 FR 28710 (1972), and the Commission's regulations, see 10 CFR 2.104, 2.202, 2.300, 2.303, 2.309, 2.311, 2.318, and 2.321, notice is hereby given that an Atomic Safety and Licensing Board is being established to preside over the following proceeding: Safety Light Corporation, Bloomsburg, Pennsylvania Site, (Materials License Suspension).

This proceeding concerns a request for hearing submitted on December 29, 2004, by Safety Light Corporation (SLC) in response to a December 10, 2004, order from the Director of the NRC Office of Nuclear Material Safety and Safeguards suspending SLC's two byproduct materials licenses, effective immediately. In addition, in a December 29, 2004 motion, SLC asked that the immediate effectiveness of the NRC staff order suspending SLC's licenses be set aside.

The Board is comprised of the following administrative judges:

E. Roy Hawkens, Chair, U.S. Nuclear Regulatory Commission, Washington, DC 20555-0001;

Alan S. Rosenthal, U.S. Nuclear Regulatory Commission, Washington, DC 20555-0001;

Dr. Peter S. Lam, U.S. Nuclear Regulatory Commission, Washington, DC 20555-0001.

All correspondence, documents, and other materials shall be filed with the administrative judges in accordance with 10 CFR 2.302.

Issued in Rockville, Maryland, this 7th day of January 2005.
G. Paul Bollwerk, III,
Chief Administrative Judge, Atomic Safety and Licensing Board Panel.

[FR Doc. 05-692 Filed 1-12-05; 8:45 am]

BILLING CODE 7590-01-P